SMALL BUSINESS ADMINISTRATION

[Declaration of Disaster #P019]

State of Maine (Amendment #1)

In accordance with a notice received from the Department of Homeland Security—Federal Emergency Management Agency, effective April 9, 2004, the above numbered declaration is hereby amended to include Sagadahoc County for Public Assistance in the State of Maine as a disaster area due to damages caused by severe storms, flooding, snow melt and ice jams occurring on December 10, 2003 and continuing through December 31, 2003.

All other information remains the same, i.e., the deadline for filing applications for physical damage is April 5, 2004.

(Catalog of Federal Domestic Assistance Program Nos. 59008)

Herbert L. Mitchell,
Associate Administrator for Disaster Assistance.

[FR Doc. E4-870 Filed 4-16-04; 8:45 am]

BILLING CODE 8025-01-P